DEPARTMENT OF HEALTH AND HUMAN SERVICES

National Institutes of Health

Translational Research Working Group Public Comment Period

AGENCY: National Cancer Institute (NCI), National Institutes of Health (NIH), Department of Health and Human Services (HHS).

ACTION: Request for public comment.

SUMMARY: The Translational Research Working Group (TRWG), a broad panel including advocates, researchers from academia, industry representatives, and government officials, was established in early 2005 to evaluate the status of the National Cancer Institute's (NCI) intramural and extramural investment in translational research in order to develop recommendations on ways to coordinate and optimally integrate activities. The TRWG is also charged with developing implementation strategies that will enable the scientific community and NCI leadership to appropriately prioritize its translational research opportunities. Recommendations will be made to the National Cancer Advisory Board in early 2007. To assist in its future planning efforts, the TRWG is asking interested parties for feedback on the seventeen draft initiatives they are proposing. The TRWG compiled these draft initiatives from the comments received during the previous public comment period in early 2006. These draft initiatives address the obstacles to a successful translational research enterprise identified by the TRWG. By listening to interested parties and stakeholders from the wider community, the TRWG hopes to enhance this exciting and important activity—charting the future course of translational progress against cancer.

DATES: Parties interested in submitting comments on the draft initiatives should submit them by November 22, 2006.

ADDRESSES: Comments may be submitted electronically to the TRWG Web site: http://www.cancer.gov/trwg/.

SUPPLEMENTARY INFORMATION:

Background

The National Cancer Institute is committed to speeding the development of new diagnostic tests, cancer treatments, and other interventions that benefit people with cancer and people at risk for cancer. Such development relies on strong translational research collaborations between basic and clinical scientists to generate novel approaches. Currently, NCI supports a variety of projects that build this bridge between basic science and patient care.

Over the past year, the Translational Research Working Group (TRWG) reviewed NCI's current intramural and extramural translational research portfolio (within the scope of the TRWG mission), facilitated broad community input, invited public comment, and recommended ways to improve and integrate efforts. The ultimate goal is to accelerate progress toward improving the health of the nation and cancer patient outcomes.

Request for Comments

To better address the obstacles a successful translational research enterprise may face and to ensure the different viewpoints in the cancer research community are represented, the TRWG seeks input on the following challenges and the steps to facing them:

• Insufficient coordination and integration across NCI results in a fragmented translational research effort that risks duplication and may miss important opportunities.

• Absence of clearly designated funding and adequate incentives for researchers threatens the perceived importance of translational research within the NCI enterprise.

• Absence of a structured, consistent review and prioritization process tailored to the characteristics and goals of translational research makes it difficult to direct resources to critical needs and opportunities.

• Translational research core services are often duplicative and inconsistently standardized, with capacity poorly matched to need.

• Multidisciplinary nature of translational research and the need to integrate sequential steps in complex development pathways warrants dedicated project management resources.

• Inadequate collaboration with industry delays appropriate developmental hand-offs.

• Extended negotiation on intellectual property issues delays or prevent potentially productive collaborations.

• Inadequate collaboration with foundations/advocacy groups risks missing important opportunities for integration of translational research efforts and patient outreach.

• Insufficient collaboration and communication between basic and clinical scientists and the paucity of effective training opportunities limits the supply of experienced translational researchers.

FOR FURTHER INFORMATION CONTACT: Ernest Hawk, M.D., M.P.H., Director, Office of Centers, Training and Resources, National Cancer Institute, National Institutes of Health. Or visit the TRWG Web site at http://www.cancer.gov/trwg.

Dated: October 17, 2006.
Ernest Hawk,
Director, Office of Centers, Training and Resources, National Cancer Institute, National Institutes of Health.

[FR Doc. E6-17699 Filed 10-20-06; 8:45 am]

BILLING CODE 4140-01-P